DEPARTMENT OF AGRICULTURE

Food Safety and Inspection Service

[Docket No. FSIS-2011-0031]

Privacy Act of 1974; New System of Records

AGENCY: U.S. Department of Agriculture, Food Safety and Inspection Service.

ACTION: Notice of a new system of records.

SUMMARY: In accordance with the Privacy Act of 1974, as amended, the Department of Agriculture (USDA) proposes a new Food Safety and Inspection Service (FSIS) system of records entitled: USDA/FSIS-0005, AssuranceNet (ANet). ANet is a Web-based system that collects information to support FSIS' mission through detecting vulnerabilities in food safety systems, processes, and functions so that the potential for harm can be promptly identified, reduced, and eliminated. The information stored in ANet is gathered from various electronic and paper-based sources, and is used to track, measure, and monitor activities and performance. The System also alerts FSIS' management officials to the performance of critical public health and food defense functions; assists in discerning trends; identifies and focuses on areas of high-risk; and helps to determine strategies to combat threats to food safety and food defense. Within ANet, FSIS maintains contact and other identifying information about Federal employees, State employees, contractors of USDA, government officials, and representatives who work at or are associated with the work at meat and poultry establishments and egg products plants.

DATES: Applicable Date: April 21, 2022. Written comments must be received on or before the above date. The proposed system will be adopted on the above date, without further notice, unless it is modified in response to comments, in which case the notice will be republished.

ADDRESSES: FSIS invites interested persons to submit comments on the notice. Comments may be submitted by one of the following methods:

• Federal eRulemaking Portal: This website provides the ability to type short comments directly into the comment field on this web page or attach a file for lengthier comments. Go to https://www.regulations.gov. Follow the on-line instructions at that site for submitting comments.

• Mail: Send to Docket Clerk, U.S. Department of Agriculture, Food Safety and Inspection Service, 1400 Independence Avenue SW, Mailstop 3758, Washington, DC 20250-3700.

• Hand- or courier-delivered submittals: Deliver to 1400 Independence Avenue SW, Jamie L. Whitten Building, Room 350-E, Washington, DC 20250-3700.

Instructions: All items submitted by mail or electronic mail must include the Agency name and docket number FSIS-2011-0031. Comments received in response to this docket will be made available for public inspection and posted without change, including any personal information, to https://www.regulations.gov.

Docket: For access to background documents or comments received, call (202) 720-5627 to schedule a time to visit the FSIS Docket Room at 1400 Independence Avenue SW, Washington, DC 20250-3700.

FOR FURTHER INFORMATION CONTACT: Scott Safian, AssuranceNet System Owner/Manager, Enforcement and Litigation Division, Office of Investigation, Enforcement and Audit, Food Safety and Inspection Service, 1400 Independence Ave. SW, Washington, DC, 20250; Telephone 202-418-8872. FOR PRIVACY Questions: Privacy Office, Office of the Chief Information Officer, USDA, 1400 Independence Ave. SW, Washington, DC, 20250; Telephone 202-619-8503.

SUPPLEMENTARY INFORMATION: The Privacy Act requires agencies to publish in the Federal Register (FR) a notice of any new or revised system of records. A “system of records” is a group of any records under the control of an agency from which information is retrievable by the name of the individual or by some unique identifier assigned to the individual. USDA is proposing to establish a new System of Records Notice, entitled USDA/FSIS-0005, AssuranceNet (ANet).

The primary purpose of ANet is to enable oversight, monitoring, and management of critical public health activities related to meat, poultry, and egg products manufactured and handled by businesses under the regulatory oversight of FSIS. ANet tracks, measures, and monitors critical public health information and regulatory functions executed by FSIS employees. ANet's data enables FSIS to ensure that critical public health functions and activities are performed effectively, according to designated schedules and times, and that the methods used are standardized and traceable. The System compares actual performance with predetermined performance measures of the individual regulated businesses and Agency employees, and in aggregate groups of establishments and in-commerce facilities, program circuits, regions and districts, and by program activities and projects.

FSIS program areas currently use ANet to monitor public health regulatory activities. ANet tracks regulatory, compliance, and performance information related to inspection, surveillance, enforcement, and litigation activities and compares this data to performance targets. The data comparisons allow for management oversight and control of regulatory activities and agency performance across several diverse program areas. ANet strengthens FSIS' ability to analyze the effectiveness of its regulatory policies and procedures and assures that its methods, evaluations, and enforcement activities are standardized and traceable nationwide.

ANet comprises multiple systems and system functions. The System's structure consists of the components that provide application security, application navigation, business logic processing, data storage and retrieval, data presentation, report creation and distribution, performance management, document management, and workflow management.

The USDA is issuing a Notice of Proposed Rulemaking to exempt this System of Records from certain provisions of the Privacy Act. A Privacy Impact Assessment is posted on https://www.usda.gov/sites/default/files/documents/fsis-assurance-net-pia.pdf.

In accordance with the Privacy Act, as implemented by the Office of Management and Budget (OMB) Circular A-108, USDA has provided a report of this proposed new system of records to the Chair of the Committee on Homeland Security and Governmental Affairs, United States Senate; the Chair of the Committee on Oversight and Government Reform, House of Representatives; and the Administrator of the Office of Information and Regulatory Affairs, OMB.

Done, in Washington, DC
Paul Kiecker,
Administrator.

SYSTEM NAME AND NUMBER:

AssuranceNet (ANet), USDA/FSIS-0005.

SECURITY CLASSIFICATION:

Unclassified.

SYSTEM LOCATION:

Records are maintained at the U.S. Department of Agriculture, 1400 Independence Avenue SW, Washington, DC 20250, and at USDA's National Information Technology Center facility at 8930 Ward Parkway, Kansas City, Missouri, 64114.

SYSTEM MANAGER:

Director, Enforcement and Litigation Division, Office of Investigation, Enforcement and Audit, Food Safety and Inspection Service, 355 E Street SW, Room 9-205, Patriots Plaza 3, Washington, DC 20024.

AUTHORITY FOR MAINTENANCE OF THE SYSTEM:

Poultry Products Inspection Act (21 U.S.C. 451 et seq.); Federal Meat Inspection Act (21 U.S.C. 601 et seq.); Egg Products Inspection Act (21 U.S.C. 1031 et seq.); Humane Methods of Livestock Slaughter Act of 1978 (7 U.S.C. 1901-1906); Authority to Operate (ATO), dated 03/23/2017.

PURPOSE OF THE SYSTEM:

The primary role of this web-based electronic database is to ensure data relating to work performed by employees, individually and in aggregate, is collected and maintained, as is information regarding management controls, performance tracking, and performance measurements associated with inspection, enforcement, laboratory sampling, pathogen reduction, recalls, import surveillance and re-inspection, investigations, policy development, management projects, and litigation activities.

ANet supports the various regulatory and enforcement functions critical to FSIS' food safety mission to ensure that meat, poultry, and egg products are safe, wholesome, unadulterated and properly labeled. Using ANet, FSIS monitors regulatory inspection, verification, compliance, enforcement, sampling, and other data and information to discern trends, causes, outcomes, and to measure the effectiveness of Agency efforts in protecting public health. Through its ability to schedule and analyze the use of FSIS resources, ANet also improves the Agency's ability to respond to naturally occurring events, accidents, and intentional acts that can put food and the food supply chain at risk.

ANet provides program offices with a central repository for reporting, managing, and analyzing in-plant and in-commerce data. It is designed to (1) assess the performance of non-supervisory in-plant inspection personnel, (2) assess the performance of in-plant supervisory personnel, (3) oversee surveillance and enforcement activities, (4) document all phases of a compliance action, (5) consolidate the existing information data reporting applications and aggregate performance data, and (6) document and report compliance and enforcement activities.

CATEGORIES OF INDIVIDUALS COVERED BY THE SYSTEM

All individuals granted access to ANet are covered: (1) Employees and contractors of USDA (“USDA Personnel”); and (2) government officials (domestic and foreign) (“Other State and Federal Government Officials”). All individuals, even if they are not users of ANet, who are mentioned or referenced in any documents entered into ANet by a user are also covered. This group may include, but is not limited to: Establishment workers, vendors, agents, interviewees, as well as private citizens who become involved with FSIS investigations.

CATEGORIES OF RECORDS IN THE SYSTEM:

ANet contains the names and contact information of Federal employees and State employees who work at or are associated with the work at a plant. Contact information, including first and last names, telephone numbers, and work, home, or email addresses, will be retained for operators or officials of establishments or in-commerce facilities, as well as for private citizens involved with FSIS investigations.

RECORDS SOURCE CATEGORIES:

Information is obtained directly from the individual and firm (or designee) that is the subject of the records.

ROUTINE USES OF RECORDS MAINTAINED IN THE SYSTEM, INCLUDING CATEGORIES OF USERS AND THE PURPOSES OF SUCH USES:

In addition to those disclosures generally permitted under 5 U.S.C. 552a(b) of the Privacy Act of 1974, all or a portion of the records or information contained in this system may be disclosed outside of USDA as a routine use pursuant to 5 U.S.C. 552a(b)(3) as follows:

1. To the U.S. Department of Justice (DOJ or other Federal agency conducting litigation or in proceedings before any court, adjudicative or administrative body, when it is necessary for the litigation and one of the following is a party to the litigation or has an interest in such litigation:

a. USDA or any component thereof;

b. Any employee of USDA in his/her official capacity;

c. Any employee of USDA in his/her individual capacity where DOJ or USDA has agreed to represent the employee; or

d. The United States or any agency thereof and if the USDA determines that the records are both relevant and necessary to the litigation and the use of such records is compatible with the purpose for which USDA collected the records.

2. To the National Archives and Records Administration (NARA) or other Federal government agencies pursuant to records management inspections being conducted under the authority of 44 U.S.C. 2904 and 2906.

3. To a congressional office from the record of an individual in response to an inquiry from that congressional office made at the request of the individual to whom the record pertains.

4. To an Agency, organization, or individual for the purpose of performing audit or oversight operations as authorized by law, but only such information as is necessary and relevant to such audit or oversight function. This would include, but not be limited to, the Comptroller General or any of his/her authorized representatives in the course of the performance of the duties of the Government Accountability Office, or USDA's Office of the Inspector General or any authorized representatives of that office.

5. To appropriate agencies, entities, and persons when:

a. USDA suspects or has confirmed that there has been a breach of the system of records.

b. USDA has determined that as a result of the suspected or confirmed breach, there is a risk of harm to individuals, USDA (including its information systems, programs, and operations), the Federal Government, or national security; and

c. The disclosure made to such agencies, entities, and persons is reasonably necessary to assist in connection with USDA's efforts to respond to the suspected or confirmed breach or to prevent, minimize, or remedy such harm.

6. To another Federal agency or Federal entity when USDA determines that information from this system of records is reasonably necessary to assist the recipient agency or entity in (a) responding to a suspected or confirmed breach or (b) preventing, minimizing, or remedying the risk of harm to individuals, the recipient agency or entity (including its information systems, programs, and operations), the Federal government or national security, resulting from a suspected or confirmed breach.

7. To contractors and their agents, grantees, experts, consultants, and others performing or working on a contract, service, grant, cooperative agreement, or other assignment for USDA, when necessary to accomplish an Agency function related to this system of records. Individuals who provided information under this routine use are subject to the same Privacy Act requirements and limitations on disclosure as are applicable to USDA officers and employees.

8. When a record on its face, or in conjunction with other records, indicates a violation or potential violation of law, whether civil, criminal, or regulatory in nature, and whether arising by general statute or particular program, statute, or by regulation, rule, or order issued pursuant thereto, disclosure may be made to the appropriate agency, whether Federal, State, local, tribal, foreign, or other public authority responsible for investigating, enforcing or prosecuting such violation or charged with enforcing or implementing the statute, or rule, regulation, or order issued pursuant thereto, if that information disclosed is relevant to any enforcement, regulatory, investigative, or prospective responsibility of the receiving entity.

9. To an appropriate Federal, State, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

10. To an appropriate Federal, State, tribal, local, international, or foreign law enforcement agency or appropriate authority responsive for protecting public health, preventing or monitoring disease or illness outbreaks, or ensuring the safety of the food supply. This includes the Department of Health and Human Services and its agencies, including the Centers for Disease Control and Prevention and the Food and Drug Administration, other Federal agencies, and State, tribal, and local health departments.

11. To a court or adjudicative body in proceeding when: (a) USDA or any component thereof, or (b) any employee of USDA in his or her official capacity; or (c) any employee of USDA in his or her individual capacity where USDA has agreed to represent the employee, or the United States Government, is a party to the litigation or has an interest in such litigation, and USDA determines that the records are both relevant and necessary to the litigation; and that use of such records is therefore deemed by USDA to be for a purpose that is compatible with the purpose for which USDA collected the records.

12. To an establishment regulated by FSIS, but only in connection with the USDA/FSIS investigation of establishments and verification activities.

POLICIES AND PRACTICES FOR STORAGE OF RECORDS:

The system includes a database, electronic documents and paper records. The storage for the database records is a dedicated virtual server located in the USDA NITC facility in Kansas City, MO. Duplicate records are maintained at the USDA NITC facility in St. Louis, MO. The primary storage for the electronic documents is a records management system managed and hosted by USDA at their Enterprise Data Centers in Kansas City, MO and Saint Louis, MO. Paper records are maintained in the USDA offices where they were created. Records backup storage is maintained by NITC Personnel in a virtual tape library at the USDA NITC facility in Kansas City, MO. Copies of the backup records are maintained at the USDA NITC facility in St. Louis, MO.

POLICIES AND PRACTICES FOR RETRIEVAL OF RECORDS:

Records are primarily retrieved using a unique identifier such as case ID or investigation file number. Records may also be retrieved by case type, date range, firm ID, firm name, region, or key word search. Names can also be used to retrieve individual records; however, using the case ID or other database fields reduces the need for retrieval by information that could identify an individual.

POLICIES AND PROCEDURES FOR RETENTION AND DISPOSAL OF RECORDS:

Records will be destroyed or retired in accordance with the USDA's published records disposition schedules, as approved by the NARA. A master file backup is created at the end of the calendar year and maintained in St. Louis Mo. The St. Louis offsite storage site is located approximately 250 miles from the primary data facility and is not susceptible to the same hazards.

ADMINISTRATION, TECHNICAL, AND PHYSICAL SAFEGUARDS:

Records in this system are safeguarded by restricting accessibility, in accordance with USDA security and access policies. The safeguarding includes: Firewall(s), network protection, and an encrypted password. Each user is assigned a level of role-based access, which is strictly controlled and granted through USDA-approved, secure application (Level 2 eAuthentication) after the user has successfully completed the Government National Agency Check with Inquiries (NACI) investigation. Controls are in place to preclude anonymous usage and browsing.

RECORDS ACCESS PROCEDURES:

Because individual access to these records would impair investigations and alert subjects that their activities are being scrutinized, the Agency proposes to exempt portions of this system from the notification and access procedures of the Privacy Act, pursuant to section (k)(2) and USDA's implementing regulations at 7 CFR part 1. However, individuals seeking notification of and access to their records should submit a written request, with reasonable specificity, to the FSIS Freedom of Information Act (FOIA) Office at: 1400 Independence Ave. SW, Room 1168-South, Mail Stop No. 3713, Washington, DC 20250. Requests for such access will be reviewed on a case-by-case basis.

CONTESTING RECORDS PROCEDURES:

In accordance with the 7 CFR part 1, individuals seeking to contest or amend information maintained in the system should direct their request to the above listed System Manager and should include the reason for contesting it and the proposed amendment to the information with supporting information to show how the record is inaccurate. A request for contesting records should contain: Name, address, ZIP code, name of the system of records, year of records in question, and any other pertinent information to help identify the file.

NOTIFICATION PROCEDURES:

See “Records Access Procedures” above.

EXEMPTIONS PROMULGATED FOR THE SYSTEM:

The USDA/FSIS-0005, AssuranceNet system of records is exempt from subsections (c)(3), (c)(4), (d)(1)-(4), (e)(1)-(3), (e)(4)(G)-(I), (f), and (g) of the Privacy Act, 5 U.S.C. 552a, to the extent it contains investigatory material compiled for law enforcement purposes in accordance with 5 U.S.C. 552a(k) (2). In addition, to the extent a record contains information from other exempt systems of records, USDA will rely on the exemptions claimed for those systems.

HISTORY:

None.

[FR Doc. 2022-05746 Filed 3-21-22; 8:45 am]

BILLING CODE 3410-DM-P